DEPARTMENT OF HEALTH AND HUMAN SERVICES

Administration for Children and Families

Proposed Information Collection Activity; Comment Request

Title: Understanding the Intersection Between TANF and Refugee Cash Assistance Services.

OMB No.: New Collection.

Description: The Administration for Children and Families (ACF), U.S. Department of Health and Human Services (HHS) is proposing data collection activities as part of a project to understand the intersection between Temporary Assistance for Needy Families (TANF) and Refugee Cash Assistance (RCA). The goal of this project is to help ACF better understand how the variety of systems that assist refugees collaborate to promote common goals of self-sufficiency and employment, and how refugees' experiences might differ depending on the structure of the state (or local) program arrangements. To achieve this goal, this study aims to document what states are doing to help refugees gain self-sufficiency; if and how states are integrating RCA, TANF, and associated services to better meet the needs of refugees; and what data is collected currently, or might be collected in the future, to better understand refugee resettlement services and suggest future areas for inquiry.

The proposed data collection activities described in this notice will collect data about state policies and practices; how TANF, RCA, and associated services are provided; the respective roles of the various agencies and organizations in serving participants; how the agencies and organizations integrate services internally and/or collaborate with other organizations; refugee populations served; approaches to addressing the particular barriers refugees face; promising practices and strategies for assisting refugees; gaps in services; local labor market conditions; and experiences of refugees accessing services through these programs.

The proposed information collection activities include:

(1) The survey of state refugee coordinators will be administered to state refugee coordinators in each state and the District of Columbia. The survey will collect information about state policies and practices.

(2) The four site visit interview guides will collect information about how TANF, RCA, and associated services are provided; the respective roles of the various agencies and organizations in serving participants; how the agencies and organizations integrate services internally and/or collaborate with other organizations; approaches to addressing the particular barriers refugees face; promising practices and strategies for assisting refugees; gaps in services; data maintained by programs serving refugees; and local labor market conditions.

(3) The focus group guide will collect information from program participants about the services they received how they were delivered, their experiences attempting to achieve self—sufficiency within a rapid timeframe, and the challenges they have faced.

Respondents: Individuals receiving RCA, TANF, and related services; State Refugee Coordinators; Managers and staff at local TANF offices; local resettlement agency staff; community-based organization staff providing services to refugees; staff operating alternative cash assistance programs for refugees such as Public/Private Partnerships(s) and Wilson/Fish programs (if different from the local resettlement agency); and staff from other programs providing employability and social adjustment and cultural orientation services to refugees.

Annual Burden Estimates
Instrument | Total number of respondents | Annual number of respondents | Number of responses per respondent | Average burden hours per response | Annual burden hours
Survey of State Refugee Coordinators | 50 | 25 | 1 | .5 | 13
Site Visit Interview Guide for Public Agency Temporary Assistance for Needy Families Managers and Staff | 40 | 20 | 1 | 1.5 | 30
Site Visit Interview Guide for Public Agency Refugee Cash Assistance Managers and Staff | 40 | 20 | 1 | 1.5 | 30
Site Visit Interview Guide for Voluntary Agency Staff | 40 | 20 | 1 | 1.5 | 30
Site Visit Interview Guide for Other Community- Based Organization Staff | 40 | 20 | 1 | 1.5 | 30
Focus Group Guide | 72 | 36 | 1 | 1.5 | 54

Estimated Total Annual Burden Hours: 187.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Karl Koerper,
Reports Clearance Officer.

[FR Doc. 2015-04101 Filed 2-26-15; 8:45 am]

BILLING CODE 4184-07-P